DEPARTMENT OF AGRICULTURE

Forest Service

Spruce Gulch Bark Beetle and Fuels Reduction Project

AGENCY: Forest Service, USDA—Medicine Bow-Routt National Forests.

ACTION: Notice of intent to prepare an environmental impact statement.

SUMMARY: In accordance with the National Environmental Policy Act, notice is hereby given that the Forest Service, Medicine Bow-Routt National Forests, will prepare a Draft Environmental Impact Statement to disclose the environmental consequences of the proposed Spruce Gulch Bark Beetle and Fuels Reduction project (Spruce Gulch). The Spruce Gulch analysis area encompasses approximately 32,000 acres of National Forest System (NFS) land, 390 acres of interspersed private land, and 150 acres of State of Wyoming land. The majority of the analysis area is situated within the Ecological Restoration—Forest Products Management Area (MA 5.15). MA 5.15 is managed to maintain or restore healthy ecological conditions through a variety of management activities, including timber harvest, while providing a mix of ecological and human needs. The remaining area is situated within a Wildland—Residential Interface Management Area (MA 7.1). National Forest System (NFS) lands adjacent to the residential interface areas are managed to minimize risks of catastrophic fires and insect and disease epidemics.

Mountain pine beetles (Dendroctonus ponderosae) are at epidemic levels in northern Colorado and southern Wyoming and are causing significant mortality of lodgepole pine trees. In response to this situation, a Mountain Pine Beetle Epidemic Declaration was issued by the Rocky Mountain Regional Office on June 25, 2007. The declaration was based on analysis of aerial survey data and ground survey data sets of forests containing lodgepole pine at risk for mountain pine beetle infestation. The mountain pine beetle epidemic declaration encompasses the Spruce Gulch analysis area in southern Wyoming. Proposed treatments associated with the Spruce Gulch project will focus on salvaging dead and dying timber to promote regeneration of future lodgepole pine stands and reducing hazardous fuel concentrations adjacent to private lands and egress routes.

The Forest Supervisor of the Medicine Bow-Routt National Forests has determined that the Spruce Gulch project is authorized under sections 102(a)(1) (Federal land in wildland-urban interface areas) and 102(a)(4) (insect and disease epidemics) of the Healthy Forests Restoration Act (HFRA) of 2003. HFRA provides for expedited environmental analysis and treatments of lands that are at risk of wildland fire, have experienced windthrow or blowdown or are at risk of insect and disease epidemics. Accordingly, the environmental analysis associated with the Spruce Gulch project will proceed according to section 104 of the HFRA.

To move toward the desired future condition, as described in the Medicine Bow Revised Land and Resource Management Plan (Revised Forest Plan 2003), and meet the purpose and need of the project proposal, proposed silvicultural treatments include: (1) Clearcutting; (2) commercial thinning; (3) shelterwood removal; (4) shelterwood preparatory cut; (5) shelterwood seed cut; (6) group selection; (7) individual tree selection; (8) sanitation/salvage; and (9) salvage treatments. Transportation activities associated with the project proposal consist of road construction and road reconstruction.

DATES: Comments concerning the scope of the analysis must be received by February 15, 2008. The Draft Environmental Impact Statement is expected to be available for public review in April 2008, the Final Environmental Impact Statement is expected to be available in June 2008, and the Record of Decision is expected to be released in September 2008.

ADDRESSES: Submit written, oral, or E-mail comments by: (1) Postal service-Medicine Bow-Routt National Forests, ATTN: Melissa Martin, Project Coordinator, 2468 Jackson Street, Laramie, WY 82070; (2) telephone-(307) 745-2371; (3) E-mail-mmmartin@fs.fed.us.

FOR FURTHER INFORMATION CONTACT: Charles Cobb at (307) 245-2338.

SUPPLEMENTARY INFORMATION:

Purpose and Need for Action

The purpose of the Spruce Gulch project is to reduce current mountain pine beetle populations in forested stands dominated by lodgepole pine trees, decrease the risk and hazard of catastrophic wildfire in the proximity of private lands and homes, and to reduce the susceptibility of vegetation to catastrophic fire and further mountain pine beetle attacks.

The project is needed to:

• Reduce the threat of future beetle infestations in stands that have a moderate to high beetle risk;

• Reduce the risk of high intensity/high severity wildfires within treatment areas by reducing hazardous fuel loadings associated with treatments and beetle killed trees;

• Reduce the effects of tree mortality on the overall health, scenic quality, and condition of forested areas; and

• Salvage forest products from forested lands classified as being suitable to keep them in production and positively contributing to the Forest's Allowable Sale Quantity.

Proposed Action

Under the Proposed Action, the Laramie Ranger District of the Medicine Bow-Routt National Forests will evaluate a variety of bark beetle related salvage, suppression, and prevention silvicultural treatments and hazardous fuels abatement treatments on approximately 4,500 acres. Current estimates identify 1,859 acres of clearcutting, 146 acres of commercial thinning, 38 acres of overstory removal, and 2,463 acres of adaptive management prescriptions. Adaptive management prescriptions including salvage, sanitation/salvage, shelterwood, group selection, individual tree selection, commercial thinning, and overstory removal. Adaptive management strategies are proposed on these acres because it would be difficult, at this point in time, to determine the exact location, timing, treatment types, and specific amounts of treatment type that would best address the rapidly spreading mountain pine beetle epidemic. The treatments would be located primarily within MAs 5.15 and 7.1, with a small amount of treatments within MA 5.13—Forest Products.

Approximately 1,041 of the 4,500 acres identified above fall within MA 7.1—Residential/Forest Interface; these acres would be managed using a combination of silvicultural treatments to reduce hazardous fuels. Management activities would generally occur less than one-half mile, or as identified within specific community wildfire protection plans, from the identified communities and would be subordinate to more restrictive management areas. Appropriate treatment boundaries would be based on site-specific conditions such as topography, vegetation conditions, and fuel loadings.

Approximately 0.3 miles of specified road construction, 2.7 miles of temporary road construction, and 8.8 miles of road reconstruction could be required for project implementation. The final assessment of road needs has not been determined, and could be more or less. To accommodate the amount of harvest and road construction, the proposal may include some soil and water projects to mitigate road related problems.

Note: Forest-wide Direction contained in the Medicine Bow Land and Resource Management Plan (Forest Plan 2003) generally limits the size of openings created by even-aged management (e.g. clearcuts) to 40 acres (Forest Plan page 1-35). Exceptions are granted, however, in areas that have experienced natural catastrophic conditions such as fire, insect or disease attacks, or windstorms. The Spruce Gulch Proposed Action currently proposes a clearcut prescription on 49 units (totaling 1,859 acres), 22 of which exceed the 40 acre maximum size limitation. The largest proposed clearcut unit is 138 acres, while the majority of the other units are between 41 and 80 acres. These larger clearcut units primarily fall within MA 5.15 (Ecological Restoration) which allows created openings as large as 250 acres (Forest Plan page 2-63, Vegetation Guideline #2)

Collaboration Process: As required by Title I, section 104 of the HFRA, the Forest Service engaged in a collaborative process with local stakeholders prior to developing the Proposed Action described above. Members of the collaborative group included, but were not limited to, private landowners within or adjacent to the analysis area boundary, industry representatives, State and local government officials, and members of public interest groups. The collaborators participated in three meetings hosted by the Forest Service during the months of November and December of 2007, and contributions from the group were considered and incorporated in to the final design of the Proposed Action.

Responsible Official

The responsible official for the Spruce Gulch Bark Beetle and Fuels Reduction project is the Laramie District Ranger of the Medicine Bow-Routt National Forests.

Nature of Decision To Be Made

The Spruce Gulch Bark Beetle and Fuels Reduction Environmental Impact Statement will evaluate site-specific management proposals, consider alternatives to the Proposed Action, and analyze the effects of the activities proposed in the alternatives. It will form the basis for the Responsible Official to determine: (1) Whether or not the Proposed Action and alternatives are responsive to the issues, are consistent with Forest Plan direction, meet the purpose and need, and are consistent with other related laws and regulations directing National Forest Management activities; (2) whether or not the information in the analysis is sufficient to implement proposed activities; and (3) which actions, if any, to approve.

Preliminary Issues

The following potential issues and concerns were identified via internal scoping and collaboration efforts: (1) Beetle spread from NFS lands to adjacent private lands; (2) cumulative impacts of past and proposed treatments; (3) intensity of vegetative treatments and slash disposal adjacent to wildland-urban interface areas; (4) ingress/egress for forest users and property owners; and (5) management of mapped and inventoried old growth stands.

Comment Requested

This notice of intent initiates the scoping process that guides the development of the environmental impact statement. Comments that are site-specific in nature are most helpful to resource professionals when trying to narrow and address the public's issue and concerns. Comments on the Spruce Gulch proposal will be accepted until February 15, 2008 as identified previously in this notice of intent. Comments will be reviewed and issues will be identified. Issues that cannot be resolved by design criteria or minor changes to the Proposed Action may generate alternatives to the Proposed Action. This process is driven by comments received from the public, other agencies, and internal Forest Service concerns. To assist in commenting, a scoping letter providing more detail on the project proposal has been prepared and is available to interested parties. Contact Melissa Martin, Project Coordinator, at the address listed in this notice of intent if you would like to receive a copy.

Release of Names

Comments received in response to this solicitation, including names and addresses of those who commented, will be considered part of the public record on this Proposed Action and will be available for public inspection. Comments submitted anonymously will be accepted and considered; however, those who submit anonymous comments will not have standing to object to the subsequent decision under 36 CFR Part 218. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within ten (10) days.

Early Notice of Importance of Public Participation in Subsequent Environmental Review

A draft environmental impact statement will be prepared for comment. The comment period on the draft environmental impact statement will be 45 days from the date of the Environmental Protection Agency publishes the notice of availability in the Federal Register.

The Forest Service believes, at this early stage, that it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised during the draft environmental impact statement stage, but are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final environmental impact statement.

To assist the Forest Service in identifying and considering issues and concerns related to the Proposed Action, comments on the draft environmental impact statement should be as specific as possible. It is also helpful if comments refer to specific pages or chapters of the draft document. Comments may also address the adequacy of the draft environmental impact statement or the merits of the alternatives displayed in the document. Reviewers should refer to the Council on Environmental Quality Regulations at 40 CFR 1503.3 for implementing the procedural provisions of the National Environmental Policy Act for addressing these points.

Dated: January 9, 2008.
Thomas A. Florich,
Acting Laramie District Ranger.

[FR Doc. 08-113 Filed 1-16-08; 8:45 am]

BILLING CODE 3410-11-M